COMMITTEE FOR PURCHASE FROM PEOPLE WHO ARE BLIND OR SEVERELY DISABLED

Strategic Plan Notice

AGENCY: Committee for Purchase From People Who Are Blind or Severely Disabled.

ACTION: Request for comments on the agency's draft Strategic Plan for FY 2022-2026.

SUMMARY: The Committee for Purchase From People Who Are Blind or Severely Disabled, operating as the U.S. AbilityOne Commission, is seeking public comment on its draft Strategic Plan for FY 2022-2026.

DATES: The Commission will consider all comments submitted electronically on or before April 16, 2022.

You may submit comments, identified by Docket ID No. CPPBSD-2022-0003, only through the Federal eRulemaking Portal: http://www.regulations.gov/. To locate the Strategic Plan, use Docket ID No. CPPBSD-2022-0003 or key words such as “Strategic Plan,” “Committee for Purchase,” or “AbilityOne” to search documents accepting comments. Follow the online instructions for submitting comments. Please be advised that comments received will be posted without change to http://www.regulations.gov/, including any personal information provided. Once submitted, comments cannot be edited or withdrawn.

Accessible Format: On request to the program contact person listed under FOR FURTHER INFORMATION CONTACT, individuals with disabilities can obtain this document in an alternative accessible format.

Electronic Access to This Document: This document is available on http://www.regulations.gov/ and the U.S. AbilityOne Commission website at www.abilityone.gov.

FOR FURTHER INFORMATION CONTACT: Shelly Hammond, Director of Contracting and Policy, by telephone (571) 457-9468 or by email at shammond@abilityone.gov.

During and after the comment period, you may inspect all public comments about the draft Strategic Plan by accessing http://www.regulations.gov.

Assistance to Individuals with Disabilities in Reviewing the Strategic Plan: Upon request, we will provide an appropriate accommodation to an individual with a disability who needs assistance to review the comments for the draft Strategic Plan. If you want to request assistance, please contact the person listed in this section.

SUPPLEMENTARY INFORMATION: The draft Strategic Plan for FY 2022-2026 is provided as part of the strategic planning process under the Government Performance and Results Modernization Act of 2010 (GPRA-MA) (Pub. L. 111-352) to ensure that agency stakeholders have an opportunity to provide feedback on this plan.

The Strategic Plan includes three strategic objectives:

(1) Expand competitive integrated employment (CIE) for people who are blind or have other significant disabilities.

(2) Ensure effective governance across the AbilityOne Program.

(3) Partner with Federal agencies and AbilityOne stakeholders to increase and improve CIE opportunities for people who are blind or have other significant disabilities.

The plan also includes outcome goals, strategies, and performance measures, as well as updated mission and vision statements that reinforce the purpose of the AbilityOne Program.

By providing opportunity for public comment on its draft Strategic Plan for FY 2022-2026, as well as by posting it on the agency's website at www.abilityone.gov, the U.S. AbilityOne Commission continues its ongoing commitment to transparency about the agency's future plans and actions.

The Commission intends to consider all comments received during the comment period. The Commission may also use some of those comments to amend or modify the Strategic Plan, but commenters should note that this posting and any public comments are not subject to Administrative Procedure Act (5 U.S.C. 551-559) and its implementing regulations.

Michael R. Jurkowski,
Acting Director, Business Operations.

[FR Doc. 2022-05794 Filed 3-17-22; 8:45 am]

BILLING CODE 6353-01-P